DEPARTMENT OF ENERGY

Federal Energy Regulatory Commission

[Docket No. RP03-80-000]

Florida Gas Transmission Company; Notice of Proposed Changes in FERC Gas Tariff

November 21, 2002.

Take notice that on November 19, 2002, Florida Gas Transmission Company (FGT) tendered for filing to become part of its FERC Gas Tariff, Third Revised Volume No. 1, the following tariff sheets, effective December 1, 2002:

Fifty-Fifth Revised Sheet No. 8A

Forty-Seventh Revised Sheet No. 8A.01

Forty-Seventh Revised Sheet No. 8A.02

Fifth Revised Sheet No. 8A.04

Fiftieth Revised Sheet No. 8B

Forty-Third Revised Sheet No. 8B.01

First Revised Sheet No. 8B.02

FGT states that in Docket No. RP02-513-000 filed on August 29, 2002, FGT filed to establish a Base Fuel Reimbursement Charge Percentage (“Base FRCP”) of 3.01 % to become effective for the six-month Winter Period beginning October 1, 2002. In the instant filing, FGT is filing a flex adjustment of (0.26%) to be effective December 1, 2002, which, when combined with the Base FRCP of 3.01% results in an Effective Fuel Reimbursement Charge Percentage of 2.75%. FGT states that this filing is necessary because FGT is currently experiencing lower fuel usage than is being recovered in the currently effective FRCP of 3.01%. Decreasing the Effective FRCP will reduce FGT's overrecovery of fuel and reduce the Unit Fuel Surcharge in the next Winter Period.

FGT states that the tariff sheets listed above are being filed pursuant to Section 27.A.2.b of the General Terms and Conditions of FGT's Tariff, which provides for flex adjustments to the Base FRCP. Pursuant to the terms of Section 27.A.2.b, a flex adjustment shall become effective without prior FERC approval provided that such flex adjustment does not exceed 0.50%, is effective at the beginning of a month, is posted on FGT's EBB at least five working days prior to the nomination deadline, and is filed no more than sixty and at least seven days before the proposed effective date. FGT states that the instant filing comports with these provisions and FGT has posted notice of the flex adjustment prior to the instant filing. Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's website at http://www.ferc.gov using the “FERRIS” link. Enter the docket number excluding the last three digits in the docket number field to access the document. For Assistance, please contact FERC Online Support at FERCOnlineSupport@ferc.gov or toll-free at (866) 208-3676, or TTY, contact (202) 502-8659. Comments, protests and interventions may be filed electronically via the Internet in lieu of paper. The Commission strongly encourages electronic filings. See 18 CFR 385.2001(a)(1)(iii) and the instructions on the Commission's web site under the “e-Filing” link.

Linwood A. Watson, Jr.,
Deputy Secretary.

[FR Doc. 02-30213 Filed 11-26-02; 8:45 am]

BILLING CODE 6717-01-P